DEPARTMENT OF HEALTH AND HUMAN SERVICES

National Institutes of Health

National Institute of Environmental Health Sciences; Notice of Meeting

Pursuant to section 10(d) of the Federal Advisory Committee Act, as amended, notice is hereby given of a meeting of the Board of Scientific Counselors, NIEHS.

The meeting will be open to the public as indicated below, with attendance limited to space available. Individuals who plan to attend as well as those who need special assistance, such as sign language interpretation or other reasonable accommodations, should notify the Contact Person listed below in advance of the meeting. The open session will be videocast and can be accessed from the NIH Videocasting website (http://videocast.nih.gov/).

The meeting will be closed to the public as indicated below in accordance with the provisions set forth in section 552b(c)(6), Title 5 U.S.C., as amended for the consideration of personnel qualifications and performance, and the competence of individual investigators, the disclosure of which would constitute a clearly unwarranted invasion of personal privacy.

Name of Committee: Board of Scientific Counselors, NIEHS.

Date: December 4, 2022.

Closed: 7:00 p.m. to 8:30 p.m.

Agenda: Discussion of BSC Reviews.

Place: National Institute of Environmental Health Science, 111 T. W. Alexander Drive, Research Triangle Park, NC 27709 (Hybrid Meeting).

Open: December 5, 2022, 9:00 a.m. to 12:05 p.m.

Agenda: Meeting Overview and Q & A Sessions (Calcium Signaling in Health & Disease Group, Inositol Signaling Group, and Molecular Endocrinology Group).

Place: National Institute of Environmental Health Science, 111 T. W. Alexander Drive, Research Triangle Park, NC 27709 (Hybrid Meeting).

Closed: December 5, 2022, 12:05 p.m. to 1:05 p.m.

Agenda: To review and evaluate personnel qualifications and performance, and competence of individual investigators.

Place: National Institute of Environmental Health Science, 111 T. W. Alexander Drive, Research Triangle Park, NC 27709 (Hybrid Meeting).

Open: December 5, 2022, 1:05 p.m. to 2:45 p.m.

Agenda: Q & A Sessions (Nucleolar Integrity Group and Metabolism, Genes and Environment Group).

Place: National Institute of Environmental Health Science, 111 T. W. Alexander Drive, Research Triangle Park, NC 27709 (Hybrid Meeting).

Closed: December 5, 2022, 3:00 p.m. to 4:00 p.m.

Agenda: To review and evaluate personnel qualifications and performance, and competence of individual investigators.

Place: National Institute of Environmental Health Science, 111 T. W. Alexander Drive, Research Triangle Park, NC 27709 (Hybrid Meeting).

Open: December 5, 2022, 4:00 p.m. to 4:50 p.m.

Agenda: Q & A Sessions (In Vivo Neurobiology Group and Neurobiology Group).

Place: National Institute of Environmental Health Science, 111 T. W. Alexander Drive, Research Triangle Park, NC 27709 (Hybrid Meeting).

Closed: December 5, 2022, 4:50 p.m. to 5:05 p.m.

Agenda: To review and evaluate personnel qualifications and performance, and competence of individual investigators.

Place: National Institute of Environmental Health Science, 111 T. W. Alexander Drive, Research Triangle Park, NC 27709 (Hybrid Meeting).

Open: December 6, 2022, 8:45 a.m. to 9:35 a.m.

Agenda: Q & A Session (Mechanism of Mutation Group and Genome Integrity & Structural Biology Group).

Place: National Institute of Environmental Health Science, 111 T. W. Alexander Drive, Research Triangle Park, NC 27709 (Hybrid Meeting).

Closed: December 6, 2022, 9:50 a.m. to 10:05 a.m.

Agenda: To review and evaluate personnel qualifications and performance, and competence of individual investigators.

Place: National Institute of Environmental Health Science, 111 T. W. Alexander Drive, Research Triangle Park, NC 27709 (Hybrid Meeting).

Open: December 6, 2022, 10:05 a.m. to 12:00 p.m.

Agenda: Poster Session.

Place: National Institute of Environmental Health Science, 111 T. W. Alexander Drive, Research Triangle Park, NC 27709 (Hybrid Meeting).

Closed: December 6, 2022, 1:00 p.m. to 5:30 p.m.

Agenda: Session with Fellows and Staff Scientists; Review of Flow Cytometry Center Molecular Genomics Core Laboratory and Fluorescence Microscopy and Imaging Center; BSC Discussion & completion of Individual Review Assignments; Debriefing to NIEHS/DIR Leadership.

Place: National Institute of Environmental Health Science, 111 T. W. Alexander Drive, Research Triangle Park, NC 27709 (Hybrid Meeting).

Contact Person: Darryl C. Zeldin, Scientific Director & Principal Investigator, Division of Intramural Research, National Institute of Environmental Sciences, NIH, 111 T. W. Alexander Drive, Mail drop MSC A2-09, Research Triangle Park, NC 27709, 919-541-1169, zeldin@niehs.nih.gov.

Any interested person may file written comments with the committee by forwarding the statement to the Contact Person listed on this notice. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Additional Health and Safety Guidance: Before attending a meeting at an NIH facility, it is important that visitors review the NIH COVID-19 Safety Plan at https://ors.od.nih.gov/sr/dohs/safety/NIH-covid-19-safety-plan/Pages/default.aspx and the NIH testing and assessment web page at https://ors.od.nih.gov/sr/dohs/safety/NIH-covid-19-safety-plan/COVID-assessment-testing/Pages/visitor-testing-requirement.aspx for information about requirements and procedures for entering NIH facilities, especially when COVID-19 community levels are medium or high. In addition, the Safer Federal Workforce website has FAQs for visitors at https://www.saferfederalworkforce.gov/faq/visitors/. Please note that if an individual has a COVID-19 diagnosis within 10 days of the meeting, that person must attend virtually. (For more information please read NIH's Requirements for Persons after Exposure at https://ors.od.nih.gov/sr/dohs/safety/NIH-covid-19-safety-plan/COVID-assessment-testing/Pages/persons-after-exposure.aspx and What Happens When Someone Tests Positive at https://ors.od.nih.gov/sr/dohs/safety/NIH-covid-19-safety-plan/COVID-assessment-testing/Pages/test-positive.aspx. Anyone from the public can attend the open portion of the meeting virtually via the NIH Videocasting website (http://videocast.nih.gov). Please continue checking these websites, in addition to the committee website listed below, for the most up to date guidance as the meeting date approaches.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: October 24, 2022.
David Freeman,
Program Analyst, Office of Federal Advisory Committee Policy.

[FR Doc. 2022-23452 Filed 10-27-22; 8:45 am]

BILLING CODE 4140-01-P